FEDERAL COMMUNICATIONS COMMISSION

[Report No. AUC-05-81-D (Auction No. 81); DA 05-1048]

Low Power Television Auction No. 81 Scheduled for September 14, 2005, Auction Inventory Revised, Applicants Proposing “Non-Commercial Educational Broadcast Station” Must Respond by May 13, 2005

AGENCY: Federal Communications Commission.

ACTION: Notice.

SUMMARY: The Wireless Telecommunications Bureau and Media Bureau set forth a revised list of construction permits for certain low power television (“LPTV”), television translator and Class A television broadcast stations available for auction in Auction No. 81.

DATE: Applicants seeking designation as a noncommercial educational (“NCE”) station applicant must submit specified information to the Commission no later than May 13, 2005.

FOR FURTHER INFORMATION CONTACT: For auction questions: Lynne Milne, Wireless Telecommunications Bureau, Auctions and Spectrum Access Division at (202) 418-0660. For questions on auction inventory or NCE status: Shaun Maher or Hossein Hasemzadeh, Media Bureau, Video Division at (202) 418-1600.

SUPPLEMENTARY INFORMATION: This is a summary of the Low Power Television Auction No. 81 Scheduled for September 14, 2005, Auction Inventory Revised, Application Proposing “Non-Commercial Educational Broadcast Station” Must Respond By May 13, 2005 Public Notice (“LPTV Revised Inventory Public Notice”), released on April 13, 2005. The complete text of the LPTV Revised Inventory Public Notice, including attachments that describe the changes to the Auction No. 81 inventory, and related Commission documents, is available for public inspection and copying from 8 a.m. to 4:30 p.m. Monday through Thursday or from 8 a.m. to 11:30 p.m. on Friday at the FCC Reference Information Center, Portals II, 445 12th Street, SW., Room CY-A257, Washington, DC 20554. The LPTV Revised Inventory Public Notice and related Commission documents may also be purchased from the Commission's duplicating contractor, Best Copy and Printing, Inc. (“BCPI”), Portals II, 445 12th Street, SW., Room CY-B402, Washington, DC 20554, telephone (202) 488-5300, facsimile (202) 488-5563, or you may contact BCPI at its Web site: http://www.BCPIWEB.com. When ordering documents from BCPI, please provide the appropriate FCC document number (for example, DA 05-1048). The LPTV Revised Inventory Public Notice and related documents are also available on the Internet at the Commission's Web site: http://wireless.fcc.gov/auctions/81/.

I. Bidders Claiming Status Under 47 U.S.C. 309(j)(2) Exemption for “Noncommercial Educational Broadcast Stations” Must Respond by May 13, 2005

1. Applications for construction permits for noncommercial educational broadcast stations (“NCE stations”) are exempt from competitive bidding by 47 U.S.C. 309(j)(2)(C). For purposes of Auction No. 81, this exemption applies to a proposal for a new LPTV, television translator or Class A television broadcast station that is owned and operated by a municipality and which transmits only noncommercial programs for educational purposes. See 47 U.S.C. 397(6)(B). In the NCE Second Report and Order, 68 FR 26220-26222, May 15, 2003, the Commission held that LPTV and television translator facilities qualify as NCE stations under 47 U.S.C. 397(6)(B), only if they are owned and operated by municipalities and transmit only NCE programs. Applications for such NCE stations are exempt from auction.

2. In the same order, the Commission also stated that proposals for NCE stations may be submitted for non-reserved spectrum in a filing window, subject to being returned as unacceptable for filing if there is any mutually exclusive application for a commercial station. Accordingly, the Commission will provide applicants in Auction No. 81 with an opportunity to designate their status as an NCE station applicant under the definition set forth in 47 U.S.C. 397(6)(B). Applicants must understand that if they make such a claim and one or more of the NCE applicant's engineering proposals is determined to be mutually exclusive with one or more engineering proposals filed by an applicant for a commercial station, the NCE station engineering proposal(s) will be returned as unacceptable for filing.

3. To claim status as an NCE applicant, an applicant for Auction No. 81 must submit an amendment to its short-form application (FCC Form 175) in the form of a written statement filed in an e-mail sent to auction81@fcc.gov or by facsimile to Kathryn Garland at (717) 338-2850. The written statement must declare the applicant's claim that it qualifies as a municipality under the definition set forth in 47 U.S.C. 397(6)(B). Specifically, the applicant must state that it is: (1) Proposing to construct and operate a noncommercial educational station; (2) it is a municipality, and (3) it intends to transmit only noncommercial programs for educational purposes. Applicants seeking designation as an NCE station applicant must submit this specified information to the Commission no later than May 13, 2005.

II. Dismissal of Engineering Proposals for Failure To Submit FRN

4. The LPTV Revised Inventory Public Notice lists the engineering proposals that will no longer be included in Auction No. 81 as a result of the applicant's failure to submit the requested FCC Registration Number (FRN). The engineering proposals listed in Attachment B were dismissed on April 13, 2005 for failure to submit an FRN pursuant to authority delegated in 47 CFR 0.283 and 0.331. A listing of the dismissed engineering proposals is provided in Attachment B to the LPTV Revised Inventory Public Notice.

III. Revised Inventory

5. The LPTV Revised Inventory Public Notice corrects and replaces the list of available construction permits released as Attachment A to the Auction No. 81 Comment Public Notice, 70 FR 11975, March 10, 2005. Due to the dismissal of some engineering proposals for failure to submit an FRN, some engineering proposals became a singleton, an engineering proposal that is not mutually-exclusive with any other engineering proposal, and were removed from the auction inventory. The removal of engineering proposals in some cases resulted in the removal of entire mutually exclusive (MX) groups from the auction inventory. Upon reexamination, we also removed from the auction inventory some MX groups which consisted of “daisy chain” engineering proposals. In addition, we removed from the auction inventory some engineering proposals previously identified as singletons.

6. Participation in Auction No. 81 will be limited to those applicants and mutually-exclusive (MX) engineering proposals that are identified in the revised Attachment A. Qualified applicants will be eligible to bid only on those construction permits for which the applicant's engineering proposal is specified in the particular MX group as identified in the revised Attachment A to the LPTV Revised Inventory Public Notice.

IV. Retention of MX Group 56 in Auction

7. In response to the Auction No. 81 Comment Public Notice, a licensee requested that MX group 56 be removed from the auction. For the reasons explained in the LPTV Revised Inventory Public Notice, the Commission declines to remove MX group 56 from Auction No. 81.

Federal Communications Commission.
Gary Michaels,
Deputy Chief, Auctions and Spectrum Access Division, WTB.

[FR Doc. 05-8599 Filed 4-27-05; 8:45 am]

BILLING CODE 6712-01-P